ENVIRONMENTAL PROTECTION AGENCY

[EPA-HQ-OPPT-2020-0413; FRL-10013-96-OMS]

Information Collection Request Submitted to OMB for Review and Approval; Comment Request; TSCA Section 8(b) Reporting Requirements for Toxic Substance Control Act (TSCA) Inventory Notifications (Renewal)

AGENCY: Environmental Protection Agency (EPA).

ACTION: Notice.

SUMMARY: The Environmental Protection Agency (EPA) has submitted an information collection request (ICR), TSCA Section 8(b) Reporting Requirements for TSCA Inventory Notifications (EPA ICR Number 2565.03, OMB Control Number 2070-0201), to the Office of Management and Budget (OMB) for review and approval in accordance with the Paperwork Reduction Act. This is a proposed extension of the ICR, which is currently approved through August 31, 2020. Public comments were previously requested via the Federal Register on November 8, 2019 during a 60-day comment period. EPA is providing an additional 30 days for public comments. A fuller description of the ICR is given below, including its estimated burden and cost to the public. An agency may not conduct or sponsor and a person is not required to respond to a collection of information unless it displays a currently valid OMB control number.

DATES: Additional comments may be submitted on or before September 28, 2020.

ADDRESSES: Submit your comments to EPA, referencing Docket ID Number EPA-HQ-OPPT-2020-0413, online using https://www.regulations.gov. Follow the online instructions for submitting comments. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: For technical information contact: Myrta R. Christian, Chemistry, Economics, and Sustainable Strategies Division (MC7406M), Office of Pollution Prevention and Toxics, Environmental Protection Agency, 1200 Pennsylvania Ave. NW, Washington, DC 20460-0001; telephone number: (202) 564-8498; email address: christian.myrta@epa.gov. For general information contact: The TSCA-Hotline, ABVI-Goodwill, 422 South Clinton Ave., Rochester, NY 14620; telephone number: (202) 554-1404; email address: TSCA-Hotline@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This information collection request (ICR) addresses the reporting and recordkeeping requirements under section 8(b) of the Toxic Substance Control Act (TSCA) that are associated with the TSCA Chemical Substance Inventory (TSCA Inventory), as codified in 40 CFR part 710. TSCA section 8(b) specifically requires that EPA compile and keep current a list of chemical substances manufactured or processed for commercial purposes in the United States. That mandate was amended in 2016 and TSCA section 8(b)(4) requires EPA to designate chemical substances on the TSCA Chemical Substance Inventory as either “active” or “inactive” in U.S. commerce. The first TSCA Inventory with all chemical substances designated as “active” or “inactive” published in February 2019. Starting August 5, 2019, manufacturers and processors are required to notify EPA before reintroducing inactive substances into U.S. commerce. The implementing regulations allow manufacturers and processors to notify EPA that it must change the commercial activity designation of the subject chemical substance from inactive to active on the TSCA Inventory. This ICR covers that notice, which is made online using EPA Form No. 9600-06 (Notice of Activity Form B). Other one-time activities that are covered by the existing ICR are now complete.

The ICR, which is available in the docket along with other related materials, provides a detailed explanation of the collection activities and the burden estimate that is only briefly summarized here:

Form Numbers: EPA Form Number 9600-06, Notice of Activity Form B.

Respondents/Affected Entities: Potential respondents to the information collection activities covered by this ICR are expected to include entities that manufacture (defined by statute to include import) or process chemical substances that are regulated under TCSA. These entities are typically identified under North American Industrial Classification System (NAICS) codes 325 (Chemical Manufacture) and 324 (Petroleum and Coal Products). Although such entities are generally companies, respondents can include anyone who engages in the covered activities.

Respondent's obligation to respond: Mandatory (40 CFR 710).

Estimated total number of potential respondents: 20 (total).

Frequency of response: On occasion.

Total estimated burden: 234 hours (per year). Burden is defined at 5 CFR 1320.3(b).

Total estimated burden: $17,795 (per year), which includes no annualized capital investment or maintenance and operational costs.

Changes in the estimates: There is a decrease of 1,174,682 hours in the total estimated burden compared with the ICR currently approved by OMB. This decrease is largely the result of the completion of several activities associated with the initial rule familiarization and one-time reporting activities (−1,174,608 hours); a decrease in the estimated number of respondents that will need to register for CDX or otherwise update their CDX registrations (−85 hours); and the addition of CBI substantiation burden associated with the 2020 rule amendments (+7 hours). This additional burden is only applicable to submissions that include CBI claims for specific chemical identities, which are expected to be five percent of submissions. This change is considered an adjustment.

Courtney Kerwin,
Director, Regulatory Support Division.

[FR Doc. 2020-18897 Filed 8-26-20; 8:45 am]

BILLING CODE 6560-50-P